SMALL BUSINESS ADMINISTRATION

[Disaster Declaration #14970 and #14971]

North Carolina Disaster Number NC-00086

AGENCY: U.S. Small Business Administration

ACTION: Amendment 3.

SUMMARY: This is an amendment of the Presidential declaration of a major disaster for Public Assistance Only for the State of North Carolina (FEMA-4285-DR), dated 11/10/2016.

Incident: Hurricane Matthew.

Incident Period: 10/04/2016 through 10/24/2016.

Effective Date: 01/04/2017.

Physical Loan Application Deadline Date: 01/09/2017.

Economic Injury (EIDL) Loan Application Deadline Date: 08/10/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of North Carolina, dated 11/10/2016, is hereby amended to include the following areas as adversely affected by the disaster.

Primary Counties: Warren

All other information in the original declaration remains unchanged.

(Catalog of Federal Domestic Assistance Number 59008)

James E. Rivera,
Associate Administrator for Disaster Assistance.

[FR Doc. 2017-00704 Filed 1-12-17; 8:45 am]

BILLING CODE 8025-01-P